DEPARTMENT OF DEFENSE

Office of the Secretary

[Docket ID: DoD-2023-HA-0105]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by April 17, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Mr. Reginald Lucas, 571-372-7574, or whs.mc-alex.esd.mbx.dd-dod-information-collections@mail.mil.

SUPPLEMENTARY INFORMATION:

Title; Associated Form; and OMB Number: Fielding Successful Medical Products Survey; OMB Control Number 0720-VOIP.

Type of Request: New.

Number of Respondents: 50.

Responses per Respondent: 1.

Annual Responses: 50.

Average Burden per Response: 30 minutes.

Annual Burden Hours: 25.

Needs and Uses: As part of 59th Medical Wing's Science & Technology, Technology Transfer and Transition (59 MDW/ST-T3) Office's continuous process improvement effort, this proposed information collection will gather feedback from companies which have successfully developed and marketed commercially-available medical products to the DoD over the last five (5) years. The questionnaire elicits information about (a) funding streams, processes, ideas, partnerships, and pathways, (b) Food & Drug Administration (FDA) approval/clearance, (c) teaming arrangements, management strategies, and leadership approaches, and (d) barriers and enablers to marketing to the DoD. By performing this market analysis, we aim to develop actionable, data-driven recommendations for improving acquisition of innovative medical solutions. An analysis of responses permits a clear understanding how the DoD can influence, emulate, and facilitate successful production and provisioning of new/novel medical products (capabilities) to address existing requirements or enhance existing medical/health capabilities. Specifically, this effort will support the DHA's mission of driving innovative solutions to improve health and build readiness.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Reginald Lucas at whs.mc-alex.esd.mbx.dd-dod-information-collections@mail.mil.

Dated: March 12, 2024.
Aaron T. Siegel,
Alternate OSD Federal Register Liaison Officer, Department of Defense.

[FR Doc. 2024-05664 Filed 3-15-24; 8:45 am]

BILLING CODE 6001-FR-P